DEPARTMENT OF TRANSPORTATION

Surface Transportation Board

[STB Finance Docket No. 34906]

City of Tacoma, Department of Public Utilities, Belt Line Division—Operation Exemption-Union Pacific Railroad Company

The City of Tacoma, Department of Public Utilities, Belt Line Division, d/b/a Tacoma Rail, Tacoma Municipal Belt Line or TMBL (TMBL), a Class III rail carrier, has filed a verified notice of exemption under 49 CFR 1150.41 to operate, pursuant to a nonexclusive trackage rights agreement with Union Pacific Railroad Company, approximately 602 feet of rail line between the former Dempsey Mill Spur and the Port of Tacoma's Belt Line Lead, in Pierce County, WA.

Because TMBL's projected annual revenues will exceed $5 million, TMBL certified to the Board on July 24, 2006, that it had complied with the requirements of 49 CFR 1150.42(e) providing for notice to employees and their labor unions on the affected line. TMBL also certified that its projected revenues as a result of this transaction would not result in the creation of a Class II or Class I rail carrier.

The transaction was scheduled to be consummated on or after the October 17, 2006 effective date of the exemption.¹

¹ By amendment filed on October 11, 2006, TMBL noted that the correct effective date for the exemption was October 17, 2006.

If the verified notice contains false or misleading information, the exemption is void ab initio. Petitions to revoke the exemption under 49 U.S.C. 10502(d) may be filed at any time. The filing of a petition to revoke will not automatically stay the transaction.

An original and 10 copies of all pleadings, referring to STB Finance Docket No. 34906, must be filed with the Surface Transportation Board, 1925 K Street, NW., Washington, DC 20423-0001. In addition, a copy of any pleading filed with the Board must be sent to TMBL's representatives: Paula Henry, 2601 SR 509 North Frontage Rd., Tacoma, WA 98421, and William C. Fosbre, 3628 South 35th Street, Tacoma, WA 98409-3115.

Board decisions and notices are available on our Web site at http://www.stb.dot.gov.

Decided: October 16, 2006.
By the Board, David M. Konschnik, Director, Office of Proceedings.
Vernon A. Williams,
Secretary.

[FR Doc. E6-17696 Filed 10-20-06; 8:45 am]

BILLING CODE 4915-01-P